DEPARTMENT OF AGRICULTURE

Forest Service

Notice of Meeting; Federal Lands Recreation Enhancement Act, (Title VIII, Pub. L. 108-447)

AGENCY: Pacific Northwest Region, USDA Forest Service.

ACTION: Notice of Meeting.

SUMMARY: The Pacific Northwest Recreation Resource Advisory Committee (RAC) will meet in Portland, Oregon. The purpose of the meeting is to review and provide recommendations concerning recreation fee proposals for facilities and services offered on lands managed by the Forest Service and Bureau of Land Management in Oregon and Washington. Proposals for this meeting include the jurisdictions of the Bureau of Land Management Salem, Vail, and Spokane Districts, the Okanogan-Wenatchee, Olympic, Rogue River-Siskiyou, Umatilla, Wallowa-Whitman, and Willamette National Forests. Other items of interest related to the Federal Lands Recreation Enhancement Act of 2004 may be discussed.

DATES: The meeting will be held on June 26, 2008, from 8:15 a.m. to 5 p.m. and June 27, 2008, from 8:15 a.m. to 4:30 p.m. A public input time is provided at 9 a.m. on both days. Comments will be limited to three minutes per person. The Designated Federal Official has the discretion to adjourn the meeting early if business is completed.

ADDRESSES: The meeting will be at the Red Lion Hotel, located at 1021 NE Grand Ave., Portland, Oregon, 97232. Send written comments to Dan Harkenrider, Designated Federal Official for the Pacific Northwest Recreation RAC, Columbia River Gorge National Scenic Area, 902 Wasco Ave, Suite 200, Hood River, Oregon 97031, or dharkenrider@fs.fed.us.

FOR FURTHER INFORMATION CONTACT: Dan Harkenrider, Designated Federal Official, Columbia River Gorge National Scenic Area, 902 Wasco Ave, Suite 200, Hood River, Oregon 97031, 541-308-1700.

SUPPLEMENTARY INFORMATION: The meeting is open to the public. The agenda for June 26, 2008, includes fee proposals from the Rogue River-Siskiyou, Wallowa Whitman, and Umatilla Forests and the Salem, Vail, and Spokane Districts of the Bureau of Land Management. The agenda for June 27, 2008, includes fee proposals from the Okanogan-Wenatchee, Olympic, and Willamette Forests. Individuals from the public will have the opportunity to address the Committee at 9 a.m. both days. Committee discussion is limited to Forest Service and Bureau of Land Management staff and Recreation Resource Advisory Committee members. However; persons who wish to bring recreation fee matters to the attention of the Committee may address the committee at 9 a.m. both days. The agenda and proposals can be found at http://www.fs.fed.us/r6/passespermits/rrac.shtml on the internet.

The Recreation RAC is authorized by the Federal Land Recreation Enhancement Act, which was signed into law by President Bush in December 2004.

Dated: May 28, 2008.
Liz Agpaoa,
Acting Regional Forester, Pacific Northwest Region, USDA Forest Service.

[FR Doc. E8-12306 Filed 6-4-08; 8:45 am]

BILLING CODE 3410-11-M